DEPARTMENT OF HOMELAND SECURITY

Coast Guard

33 CFR Part 151

[Docket No. USCG-2004-19621]

RIN 1625-AA89

Dry Cargo Residue Discharges in the Great Lakes

AGENCY: Coast Guard, DHS.

ACTION: Notice of availability and request for comments.

SUMMARY: The Coast Guard announces the availability of the Final Environmental Impact Statement (FEIS) assessing the potential environmental impacts associated with a proposed final rule to regulate discharges of dry cargo residue (DCR) in the Great Lakes. The Coast Guard requests public comment on the FEIS.

DATES: Comments and related material must reach the Docket Management Facility on or before October 25, 2013.

ADDRESSES: You may submit or view comments or related material identified by docket number USCG-2004-19621 using any one of the following methods:

(1) Federal eRulemaking Portal: http://www.regulations.gov.

(2) Fax: 202-493-2251.

(3) Mail: Docket Management Facility (M-30), U.S. Department of Transportation, West Building Ground Floor, Room W12-140, 1200 New Jersey Avenue SE., Washington, DC 20590-0001.

(4) Hand delivery: Same as mail address above, between 9 a.m. and 5 p.m., Monday through Friday, except Federal holidays. The telephone number is 202-366-9329.

To avoid duplication, please use only one of these four methods.

FOR FURTHER INFORMATION CONTACT: If you have questions on this notice, call or email Timothy P. O'Brien, Coast Guard; telephone 202-372-1539, email Timothy.P.O'Brien@uscg.mil. If you have questions on viewing or submitting material to the docket, call Barbara Hairston, Program Manager, Docket Operations, telephone 202-366-9826.

SUPPLEMENTARY INFORMATION: Pursuant to the National Environmental Policy Act of 1969, codified at 42 U.S.C. 4321-4370f, Department of Homeland Security Management Directive 023-01, and Commandant Instruction M16475.1D, we are making available to the public our FEIS assessing the potential environmental impacts associated with a proposed final rule to regulate discharges of dry cargo residue in the Great Lakes.

In August 2008, the Coast Guard issued an Environmental Impact Statement (the Phase I FEIS), which evaluated regulatory alternatives for discharging DCR into the Great Lakes. Based in part on that FEIS's findings, we published an interim rule on September 29, 2008 (73 FR 56492). It kept in place the Coast Guard's interim enforcement policy for Great Lakes DCR discharges and announced our intention to research Phase I FEIS data gaps related to DCR discharge control measure costs and effectiveness.

The Phase II FEIS we are now making available is “tiered” off the Phase I FEIS, addresses the Phase I FEIS data gaps, and would provide support for a Coast Guard final rule to take the place of the 2008 interim rule. It finalizes the Phase II draft EIS that we made available for public comment when we issued a supplemental notice of proposed rulemaking (77 FR 44528; Jul. 30, 2012) to propose the final rule. The Phase II FEIS reviews data we collected from approximately 2,000 DCR reporting forms and 30 Coast Guard-observed dry cargo loading and unloading operations. Data collected permitted further evaluations of DCR quantities and the effectiveness of control measures. The Phase II FEIS analysis concludes that the final rule would require maintaining a “broom-clean” standard on the vessel deck and implementing a management plan to minimize DCR discharges from a vessel's deck and tunnel. Vessels would need to keep onboard records of DCR-related discharges and continue observing existing DCR discharge exclusion areas. Mitigation of nearshore and port impacts would be included through a prohibition of limestone and clean stone DCR discharges within 3 statute miles of shore. In the Western Basin of Lake Erie, vessels not traveling beyond 3 statute miles from shore could discharge DCR within dredged navigation channels and not create adverse impacts to native sediment or benthos.

We encourage you to submit comments or related material on the FEIS. Please include your personal contact information so we can contact you if we need to follow up. All comments received will be posted without change to http://www.regulations.gov and will include any personal information you have provided. Anyone can search http://www.regulations.gov using a comment submitter's personal information; for more information see the Department of Transportation's Privacy Act notice (73 FR 3316; Jan. 17, 2008). We will consider all comments and material received during the comment period. Currently, we have no plans to hold public meetings in connection with this notice, but if you think such a meeting would be beneficial, contact us (see FOR FURTHER INFORMATION CONTACT).

Authority

The Coast Guard issues this notice under authority of the Freedom of Information Act, codified at 5 U.S.C. 552(a).

Dated: September 15, 2013.
J.G. Lantz,
Director of Commercial Regulations and Standards, United States Coast Guard.

[FR Doc. 2013-23283 Filed 9-24-13; 8:45 am]

BILLING CODE 9110-04-P